DEPARTMENT OF JUSTICE

Office of Justice Programs

[OJP (OJP) Docket No. 1467]

Meeting of the Department of Justice's Global Justice Information Sharing Initiative Federal Advisory Committee

AGENCY: Office of Justice Programs, Justice.

ACTION: Notice of meeting.

SUMMARY: This is an announcement for a meeting of the Department of Justice's Global Justice Information Sharing Initiative (Global) Federal Advisory Committee (GAC) to discuss the Global Initiative, as described at http://www.it.ojp.gov/global.

DATES: The meeting will take place on Wednesday, April 18, 2007, from 8:30 a.m. to 4 p.m. ET.

ADDRESSES: The meeting will take place at the Sheraton Crystal City Hotel, 1800 Jefferson Davis Highway, Arlington, Virginia 22202; Phone: (703) 486-1111.

FOR FURTHER INFORMATION CONTACT: J. Patrick McCreary, Global Designated Federal Employee (DFE), Bureau of Justice Assistance, Office of Justice Programs, 810 7th Street, Washington, DC 20531; Phone: (202) 616-0532 [note: this is not a toll-free number]; E-mail: James.P.McCreary@usdoj.gov.

SUPPLEMENTARY INFORMATION:

Purpose

The GAC acts as the focal point for justice information systems integration activities in order to facilitate the coordination of technical, funding, and legislative strategies in support of the Administration's justice priorities.

In addition, the GAC guides and monitors the development of the Global information sharing concept. It advises the Attorney General, the President (through the Attorney General), the Assistant Attorney General, Office of Justice Programs, and local, state, tribal, and federal policymakers in the executive, legislative, and judicial branches. The GAC also advocates for strategies for accomplishing a Global information sharing capability.

Meeting Registration and Accommodation

This meeting is open to the public. Due to security measures, however, members of the public who wish to attend this meeting must register with Mr. J. Patrick McCreary at the above address at least (7) days in advance of the meeting. Registrations will be accepted on a space available basis. No persons will be allowed access to the meeting without registering. All attendees will be required to sign in at the meeting registration desk. Please bring photo identification and allow extra time prior to the meeting.

Interested persons whose registrations have been accepted may be permitted to participate in the discussions at the discretion of the meeting chairman and with approval of the DFE.

Anyone requiring special accommodations should notify Mr. McCreary at least seven (7) days in advance of the meeting.

J. Patrick McCreary,
Global DFE, Bureau of Justice Assistance, Office of Justice Programs.

[FR Doc. 07-983 Filed 3-2-07; 8:45 am]

BILLING CODE 4410-18-P